DEPARTMENT OF HEALTH AND HUMAN SERVICES

Administration for Community Living

Availability of Program Application Instructions for Adult Protective Services Funding

Title: Elder Justice Act—Adult Protective Services.

Announcement Type: Initial.

Statutory Authority: The statutory authority for grants under this program announcement is contained in the Elder Justice Act, section 2042(b) of title XX of the Social Security Act [Pub. L. 74-271] [As Amended Through Pub. L. 115-123, Enacted February 9, 2018] as referenced in the Consolidated Appropriations Act, 2023, Public Law 117-328.

Catalog of Federal Domestic Assistance (CFDA) Number: 93.698.

DATES: The deadline date for the submission of the Elder Justice Act—Adult Protective Services Letter of Assurance is 11:59 p.m. EST (30 days after date of publication).

I. Funding Opportunity Description

The Administration for Community Living (ACL) is establishing the “Elder Justice Act—Adult Protective Services funding opportunity in accordance with section 2042(b) of subtitle B of title XX of the Social Security Act, otherwise known as the Elder Justice Act (EJA) as authorized and funded through the Consolidated Appropriations Act, 2023, Public Law 117-328. In accordance with these statutes, the purpose of this opportunity is to enhance and improve adult protective services provided by States, the District of Columbia, and the Territories. Funds awarded to States and Territories under this opportunity will provide Adult Protective Services (APS) programs in the States, District of Columbia, and Territories with resources to enhance, improve, and expand the ability of APS to investigate allegations of abuse, neglect, and exploitation. Examples of activities consistent with the purposes of the statute include:

• Costs and salaries for hiring permanent or temporary staff members, extended hours/over-time for current staff, and associated personnel costs;

• Costs associated with providing goods and services to APS clients;

• Costs associated with community outreach, including public awareness campaigns and other resources designed to increase the public's awareness and understanding of APS' role in the community;

• Training costs, including state-wide training conferences for APS staff;

• Acquiring personal protection equipment and supplies;

• Improving and enhancing technology systems, including supporting remote work, such as the purchase of communications and technology hardware, software, or infrastructure in order to provide adult protective services;

• Improving data collection and reporting at the case worker, local-, and state-levels in a manner that is consistent with the National Adult Maltreatment Reporting System (NAMRS);

• Improving or enhancing existing APS processes for receiving reports, conducting intakes and investigations, planning/providing for services, making case determinations, documenting and closing cases, and continuous quality improvement;

• Working with tribal adult protective services efforts, such as conducting demonstrations on state-Tribal APS partnerships to better serve tribal elders who experience abuse, neglect, and exploitation, partnering with Tribes within the state to include tribal elder abuse data in the state's National Adult Maltreatment Reporting System (NAMRS) reporting, and undertaking demonstrations to better understand elder abuse experienced by tribal individuals living in non-tribal communities and served by state APS programs;

• Establishing or enhancing the availability for elder shelters and other emergency, short-term housing and accompanying “wrap-around” services for APS clients;

• Establishing, expanding, or enhancing state-wide and local-level elder justice networks for the purpose of removing bureaucratic obstacles and improving coordination across the many state and local agencies interacting with APS clients who have experienced abuse, neglect, or exploitation;

• Costs associated with establishing new, or improving existing processes for responding to alleged scams and frauds;

• Costs associated with assisting APS clients secure the least restrictive option for emergency or alternative housing, and with obtaining, providing, or coordinating with care transitions as appropriate;

• Costs associated with transporting APS clients to necessary appointments, such as medical visits; and

• Costs associated with establishing grants or contracts to address gaps in the APS program identified in the environmental scan previously completed.

Awards authorized under the EJA section 2042(b) shall be provided to the agency or unit of state government having the legal responsibility for providing adult protective services within the state, District of Columbia, or territory. Funding under this opportunity may be used to serve any APS client who meets their state's statutory or regulatory criteria for client eligibility for APS services. This funding must supplement and not supplant existing funding for APS provided by states and local units of government. Additionally, award recipients will be required to submit federal financial reports and annual program reports related to the activities performed.

II. Award Information

A. Eligible Entity

The eligible entity for these awards is the agency or unit of state government legally responsible for providing adult protective services in each State, the District of Columbia, or Territory (EJA section 2042(b)(3)(B)).

B. Funding Instrument Type

These awards will be made in the form of formula grants to the agencies and units of state government with the legal responsibility to provide adult protective services.

C. Anticipated Total Funding per Budget Period

Under this program announcement, ACL intends to make grant awards to each State, Territory, and the District of Columbia. Funding will be distributed through the formula identified in section 2042(b) of the Elder Justice Act. The amounts allocated are based upon the proportion of elders living in each State and Territory, as defined in statute, and will be distributed based on the formula. There are no cost-sharing nor match requirements. Awards made under this announcement have an estimated start date of April 1, 2023 and an estimated end date of March 30, 2025. The total available funding for this opportunity is $13,829,521.

Below are the projected award amounts:

State/territory | Projected amount
Alabama | $203,957
Alaska | 103,721
Arizona | 295,963
Arkansas | 119,940
California | 1,379,183
Colorado | 205,382
Connecticut | 150,599
Delaware | 103,721
Dist. of Columbia | 19,614
Florida | 1,012,648
Georgia | 371,014
Hawaii | 103,721
Idaho | 103,721
Illinois | 486,778
Indiana | 258,460
Iowa | 129,256
Kansas | 112,609
Kentucky | 177,794
Louisiana | 176,669
Maine | 103,721
Maryland | 234,634
Massachusetts | 281,036
Michigan | 420,917
Minnesota | 222,640
Mississippi | 114,034
Missouri | 250,009
Montana | 103,721
Nebraska | 103,721
Nevada | 118,424
New Hampshire | 103,721
New Jersey | 364,704
New Mexico | 103,721
New York | 799,276
North Carolina | 411,452
North Dakota | 103,721
Ohio | 484,094
Oklahoma | 148,286
Oregon | 176,477
Pennsylvania | 563,289
Rhode Island | 103,721
South Carolina | 219,175
South Dakota | 103,721
Tennessee | 272,556
Texas | 913,978
Utah | 103,721
Vermont | 103,721
Virginia | 325,594
Washington | 288,858
West Virginia | 103,721
Wisconsin | 245,790
Wyoming | 103,721
American Samoa | 13,830
Guam | 13,830
Northern Marianas | 13,830
Puerto Rico | 159,576
Virgin Islands | 13,830

III. Submission Requirements

A. Letter of Assurance

A Letter of Assurance is required to be submitted by the eligible entity in order to receive an award. The Letter of Assurance must include the following:

1. Assurance that the award recipient is the agency or unit of state government legally responsible for providing adult protective services in each state and territory.

2. Assurance that funds will supplement and not supplant existing APS funding.

3. Select one of the following:

a. Assurance that the award recipient's previously submitted and approved 3-5 year operational plan for improving and enhancing their APS system at the state and local level remains accurate, and that they intend to follow that plan in expending their FY 2023 grant funds; OR

b. Assurance that the award recipient has included an initial spend plan for the FY 2023 funds and will provide an updated 3-5 operational plan within 90 days of award.

4. Assurance that funds will be spent in ways consistent with the Elder Justice Act section 2042(b) and guidance provided by ACL, including the examples of activities consistent with the purposes of the authorizing legislation contained in the Federal Register Notice:

• Personnel costs;

• Providing goods and services to APS clients;

• Community outreach;

• Training;

• Acquiring personal protection equipment and supplies;

• Improving and enhancing technology systems;

• Improving data collection and reporting at the case worker, local-, and state-levels in a manner that is consistent with the National Adult Maltreatment Reporting System;

• Improving or enhancing existing APS processes;

• Working with tribal adult protective services efforts;

• Establishing or enhancing the availability for elder shelters and other emergency, short-term housing and accompanying “wrap-around” services;

• Establishing, expanding, or enhancing state-wide and local-level elder justice networks;

• Improving and supporting remote work;

• Establishing new, or improving existing processes for responding to alleged scams and frauds;

• Transportation costs;

• Assisting APS clients secure the least restrictive option for emergency or alternative housing, and with obtaining, providing, or coordinating with care transitions as appropriate; and

• Establishing grants and contracts as needed.

5. Assurance to provide federal financial reports and annual program reports related to the activities performed.

B. Initial Spend Plan

An Initial Spend Plan is required only if the previously submitted and approved 3-5 year operational plan needs to be updated. The Initial Spend Plan should outline how the state/territory intends to spend their FY 2023 allotment in response to the needs and challenges to their APS program. The plan should be consistent with the purpose of the authorizing legislation and the description and examples outlined above. The Initial Spend Plan submitted in response to this opportunity is considered a preliminary framework for how the state/territory will plan to spend these funds. The Initial Spend Plan should have the following format: 3-5 pages in length, double-spaced, with 12pt font and 1″ margins, with a layout of 8.5″ x 11″ paper.

C. Unique Entity ID Number

All grant applicants must obtain and keep current a Unique Entity ID (UEI). On April 4, 2022, the unique entity identifier used across the federal government changed from the DUNS Number to the Unique Entity ID (generated by SAM.gov). The Unique Entity ID is a 12-character alphanumeric ID assigned to an entity by SAM.gov. The UEI is viewable in your SAM.gov entity registration record.

D. Intergovernmental Review

Executive Order 12372, Intergovernmental Review of Federal Programs, is not applicable to these grant applications.

IV. Submission Information

A. Submission Process

To receive funding, eligible entities must provide a Letter of Assurance and an Initial Spend Plan (if applicable) containing all the information outlined in Section IIIA. & B. above.

Materials should be addressed to: Alison Barkoff, Acting Administrator and Assistant Secretary for Aging, Administration for Community Living, 330 C Street SW, Washington, DC 20201.

Letters of Assurance and the Initial Spend Plan should be submitted electronically via email to aps@acl.hhs.gov.

B. Submission Dates and Times

To receive consideration, Letters of Assurance and the Initial Spend Plan must be submitted by 11:59 p.m. Eastern Time on EST (30 days after date of FRN publication), Letters of Assurance and the Initial Spend Plan should be submitted electronically via email to aps@acl.hhs.gov and have an electronic time stamp indicating the date/time submitted.

VII. Agency Contacts

A. Programmatic Issues/Questions

Direct programmatic inquiries to: Erin Kee, Email: erin.kee@acl.hhs.gov, Phone: 202-795-7312.

B. Submission Issues/Questions

Direct inquiries regarding submission of applications to aps@acl.hhs.gov. ACL will provide a response within 2 business days.

Dated: June 5, 2023.
Alison Barkoff,
Acting Administrator and Assistant Secretary for Aging.

[FR Doc. 2023-12248 Filed 6-7-23; 8:45 am]

BILLING CODE 4154-01-P